DEPARTMENT OF ENERGY

Federal Energy Regulatory Commission

[Project No. 2615-035]

Madison Paper Industries, FPL Energy Maine Hydro LLC, Merimil Limited Partnership, and Brassua Hydroelectric Limited Partnership; Notice of Intent to File License Application, Filing of Pre-Application Document, Commencement of Licensing Proceeding, Scoping Meetings, Solicitation of Comments on the Pad and Scoping Document, and Identification of Issues and Associated Study Requests

May 10, 2007.

a. Type of Filing: Notice of Intent to File License Application for a New License and Pre-Application Document; Commencing Licensing Proceeding.

b. Project No.: 2615-035.

c. Dated Filed: March 29, 2007.

d. Submitted By: Madison Paper Industries, FPL Energy Maine Hydro LLC, Merimil Limited Partnership, and Brassua Hydroelectric Limited Partnership (current co-licensee Brassua Hydroelectric Limited Partnership will no longer be a licensee after the termination of the existing license on March 31, 2012, in accordance with an indenture of lease dated October 15, 1989).

e. Name of Project: Brassua Project.

f. Location: On the northern Moose River in Sumerset, County, Maine. The project does not occupy any federal lands.

g. Filed Pursuant to: 18 CFR Part 5 of the Commission's Regulations.

h. Potential Applicant Contact: Mr. Frank Dunlap, Senior Environmental Specialist, FPL Energy Maine Hydro LLC, 160 Capital Street, Augusta, ME 04330, (207) 623-8417 or e-mail at Frank_Dunlap@fpl.com.

i. FERC Contact: John Costello (202) 502-6119 or e-mail at john.costello@ferc.gov.

j. We are asking federal, state, local, and tribal agencies with jurisdiction and/or special expertise with respect to environmental issues to cooperate with us in the preparation of the environmental document. Agencies who would like to request cooperating status should follow the instructions for filing comments described in paragraph o below.

k. With this notice, we are initiating informal consultation with: (a) The U.S. Fish and Wildlife Service and/or NOAA Fisheries under section 7 of the Endangered Species Act and the joint agency regulations thereunder at 50 CFR, Part 402; and (b) the State Historic Preservation Officer, as required by section 106, National Historical Preservation Act, and the implementing regulations of the Advisory Council on Historic Preservation at 36 CFR 800.2.

l. With this notice, we are designating FPL Energy Maine Hydro LLC, Madison Paper Industries, and Merimil Limited Partnership the Commission's non-federal representative for carrying out informal consultation, pursuant to section 7 of the Endangered Species Act and section 106 of the National Historic Preservation Act.

m. FPL Energy Maine Hydro LLC, Madison Paper Industries, and Merimil Limited Partnership filed a Pre-Application Document (PAD); including a proposed process plan and schedule with the Commission, pursuant to 18 CFR 5.6 of the Commission's regulations.

n. Copies of the PAD and Scoping Document are available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-866-208-3676, or for TTY, (202) 502-8659. A copy is also available for inspection and reproduction at the address in paragraph h.

Register online at http://ferc.gov/esubscribenow.htm to be notified via e-mail of new filing and issuances related to this or other pending projects. For assistance, contact FERC Online Support.

o. With this notice, we are soliciting comments on the PAD and Scoping Document as well as study requests. All comments on the PAD and Scoping Document, and study requests should be sent to the address above in paragraph h. In addition, all comments on the PAD and Scoping Document, study requests, requests for cooperating agency status, and all communications to Commission staff related to the merits of the potential application (original and eight copies) must be filed with the Commission at the following address: Kimberly D. Bose, Secretary, Federal Energy Regulatory Commission, 888 First Street, NE., Washington, DC 20426. All filings with the Commission must include on the first page, the project name (Brassua Project) and number (P-2615-035), and bear the heading “Comments on Pre-Application Document,” “Study Requests,” “Comments on Scoping Document 1,” “Request for Cooperating Agency Status,” or “Communications to and from Commission Staff.” Any individual or entity interested in submitting study requests, commenting on the PAD or Scoping Document, and any agency requesting cooperating status must do so by July 27, 2007.

Comments on the PAD and Scoping Document, study requests, requests for cooperating agency status, and other permissible forms of communications with the Commission may be filed electronically via the Internet in lieu of paper. The Commission strongly encourages electronic filings. See 18 CFR 385.2001(a)(1)(iii) and the instructions on the Commission's Web site (http://www.ferc.gov) under the “e-filing” link.

p. At this time, Commission staff intends to prepare a single Environmental Assessment for the project, in accordance with the National Environmental Policy Act.

Scoping Meetings

We will hold two scoping meetings at the times and places noted below. The daytime meeting will focus on resource agency, Indian tribes, and non-governmental organization concerns, while the evening meeting is primarily for receiving input from the public. We invite all interested individuals, organizations, and agencies to attend one or both of the meetings, and to assist staff in identifying particular study needs, as well as the scope of environmental issues to be addressed in the environmental document. The times and locations of these meetings are as follows:

Daytime Scoping Meeting

Date and Time: Thursday, June 28, 2007, 12 to 3 p.m. (EST).

Location: Holiday Inn, York Room, 110 Community Drive, Augusta, Maine 04330.

For Directions: Call Holiday Inn at (207) 622-4751.

Evening Scoping Meeting

Date and Time: Wednesday, June 27, 2007, 7 to 10 p.m. (EST).

Location: The Community House, 6 Lakeville Street, Greenville, Maine 04441.

For Directions: Please call the Moosehead Historical Society at (207) 695-2909.

Scoping Document, which outlines the subject areas to be addressed in the environmental document, has been mailed to the individuals and entities on the Commission's mailing list. Copies of the Scoping Document will be available at the scoping meetings, or may be viewed on the web at http://www.ferc.gov, using the “eLibrary” link. Follow the directions for accessing information in paragraph n. Depending on the extent of comments received, a Scoping Document 2 may or may not be issued.

Site Visit

FPL will conduct a tour of the project on Wednesday, June 27, 2007, starting at 9 a.m. All participants interested in attending should meet at the project's dam located on Route 15. All participants attending the site visit should be prepared to provide their own transportation and lunch. Anyone in need of directions to the dam should contact Mr. Frank Dunlap of FPL at (207) 623-8417. Those individuals planning to participate in the site visit are asked to notify Mr. Dunlap of their intent, no later than June 14, 2007.

Scoping Meeting Objectives

At the scoping meetings, staff will: (1) Present the proposed list of issues to be addressed in the EA; (2) review and discuss existing conditions and resource agency management objectives; (3) review and discuss existing information and identify preliminary information and study needs; (4) review and discuss the process plan and schedule for pre-filing activity that incorporates the time frames provided for in Part 5 of the Commission's regulations and, to the extent possible, maximizes coordination of federal, state, and tribal permitting and certification processes; and (5) discuss requests by any federal or state agency or Indian tribe acting as a cooperating agency for development of an environmental document.

Meeting participants should come prepared to discuss their issues and/or concerns. Please review the Pre-Application Document in preparation for the scoping meetings. Directions on how to obtain a copy of the PAD and Scoping Document are included in item n. of this document.

Meeting Procedures

The meetings will be recorded by a stenographer and will become part of the formal Commission record on the project.

Kimberly D. Bose,
Secretary.

[FR Doc. E7-9461 Filed 5-16-07; 8:45 am]

BILLING CODE 6717-01-P